DEPARTMENT OF THE INTERIOR

Fish and Wildlife Service

[FWS-R1-ES-2010-N184; 10120-1113-0000-C2]

Endangered and Threatened Wildlife and Plants; Draft Revised Recovery Plan for the Northern Spotted Owl (Strix occidentalis caurina)

AGENCY: Fish and Wildlife Service, Interior.

ACTION: Notice of document availability for review and comment.

SUMMARY: We, the U.S. Fish and Wildlife Service, announce the availability of the Draft Revised Recovery Plan for the Northern Spotted Owl (Strix occidentalis caurina), a northwestern U.S. species listed as threatened under the Endangered Species Act (Act). The Act requires the development of recovery plans for listed species, unless such a plan would not promote the conservation of a particular species. Recovery plans help guide conservation efforts by describing actions considered necessary for the recovery of the species, establishing criteria for downlisting or delisting listed species, and estimating time and cost for implementing the measures needed for recovery. We invite public review and comment on the Draft Revised Recovery Plan.

DATES: We must receive comments on the draft revised recovery plan on or before November 15, 2010.

ADDRESSES: Electronic copies of the draft revised recovery plan are available online at: http://www.fws.gov/endangered/species/recovery-plans.html and http://www.fws.gov/species/nso. Printed copies of the draft revised recovery plan are available by request from the Field Supervisor, U.S. Fish and Wildlife Service, Oregon Fish and Wildlife Office, 2600 SE. 98th Avenue, Ste. 100, Portland, OR 97266 (phone: 503/231-6179). Written comments and materials regarding this recovery plan should be addressed to the above Portland address or sent by e-mail to: NSORPComments@fws.gov.

FOR FURTHER INFORMATION CONTACT: Brendan White, Fish and Wildlife Biologist, at the above address and phone number.

SUPPLEMENTARY INFORMATION:

Background

Recovery of endangered or threatened animals and plants is a primary goal of our endangered species program and the Endangered Species Act (Act) (16 U.S.C. 1531 et seq.). Recovery means improvement of the status of listed species to the point at which listing is no longer necessary under the criteria set out in section 4(a)(1) of the Act.

The Act requires the development of recovery plans for listed species unless such a plan would not promote the conservation of a particular species. Recovery plans help guide conservation efforts by describing such site-specific management actions as may be necessary to achieve the plan's goal for the conservation and survival of the species, establishing criteria for delisting in accordance with the provisions of ESA Section 4, and estimating the time and cost for implementing those measures needed to achieve the plan's goal and to achieve intermediate steps toward that goal.

Section 4(f) of the Act requires that public notice and an opportunity for public review and comment be provided during recovery plan development. We will consider all comments we receive during the public comment period on the substance of the recovery plan. Comments regarding recovery plan implementation will be forwarded to appropriate Federal or other entities so that they can take them into account during the course of implementing recovery actions. Responses to individual commenters will not be provided, but we will provide a summary of how we addressed substantive comments in an appendix to the final recovery plan.

The northern spotted owl (hereafter, spotted owl) was Federally listed as a threatened species on June 26, 1990 (55 FR 26114). The current range of the spotted owl extends from southwest British Columbia through the Cascade Mountains, coastal ranges, and intervening forested lands in Washington, Oregon, and California, as far south as Marin County. Spotted owls generally rely on older forested habitats because such forests contain the structures and characteristics required for nesting, roosting, and foraging. Features that support nesting and roosting typically include a moderate-to-high forest canopy closure (60 to 90 percent); a multi-layered, multi-species forest canopy with large overstory trees; a high incidence of large trees with various deformities (large cavities, broken tops, mistletoe infections, and other evidence of decadence); large snags; large accumulations of fallen trees and other woody debris on the ground; and sufficient open space below the forest canopy for spotted owls to fly. Foraging habitat generally has attributes similar to nesting and roosting habitat, but may also include areas with less structural diversity and lower canopy cover.

The spotted owl was listed as threatened throughout its range due to the loss of suitable habitat to timber harvesting, exacerbated by catastrophic events such as fire and wind storms. Today we recognize past habitat loss, current habitat loss, and competition from barred owls (Strix varia) as the most pressing threats to spotted owl persistence. The recovery actions in this draft revised recovery plan are designed to address these and other threats within the range of the spotted owl.

The draft revised plan prioritizes recovery tasks aimed at: (1) Maintaining and managing for an adequate amount of spotted owl habitat across the species' range through active forest restoration and management, where appropriate; (2) restoring natural processes in the dry-forest landscapes such that the impacts of habitat loss through fire are minimized; and (3) conducting large-scale experiments on the effects of barred owl removal in areas where the two species co-occur. The goal of this recovery plan is to improve the status of the spotted owl so it no longer requires the protections of the Endangered Species Act.

In May of 2008 we published the Recovery Plan for the Northern Spotted Owl and announced its availability in the Federal Register (May 21, 2008; 73 FR 29471). The 2008 Recovery Plan formed the basis for our revised designation of spotted owl critical habitat, which we published in the Federal Register on August 13, 2008 (73 FR 47325). Both the 2008 critical habitat designation and the 2008 recovery plan were challenged in court. Carpenters' Industrial Council v. Salazar, Case No. 1:08-cv-01409-EGS (D.DC). In addition, on December 15, 2008, the Inspector General of the Department of the Interior issued a report entitled “Investigative Report of The Endangered Species Act and the Conflict between Science and Policy” which concluded that the integrity of the agency decision-making process for the spotted owl recovery plan was potentially jeopardized by improper political influence. As a result, the Federal government filed a motion in the lawsuit for remand of the 2008 recovery plan and critical habitat designation. On September 1, 2010, the Court issued an opinion remanding the 2008 recovery plan to us for issuance of a revised plan within nine months. The Court also indicated that it will remand the 2008 critical habitat designation pending resolution of a schedule for a new rulemaking. This notice is part of the process to consider revisions to the 2008 recovery plan.

The draft revised recovery plan is based on a review of all relevant biology, including new scientific information that has become available and critical peer-review comments we received on the 2008 Recovery Plan from three professional scientific associations: The Wildlife Society, the American Ornithologists' Union, and The Society for Conservation Biology. Like several previous plans for conserving and recovering the spotted owl, the 2008 Recovery Plan recommended a network of large habitat blocks, or Managed Owl Conservation Areas (MOCAs), intended to support long-term recovery of the species. The peer-review comments, however, were critical of this network for several reasons, including that we did not use updated modeling techniques to design the network and assess its efficacy.

The draft revised recovery plan focuses on six main topics: (1) Adequacy of spotted owl habitat reserves on the west side of the Cascade Mountains, (2) lack of habitat reserves on the east side of the Cascade Mountains, (3) the role of non-Federal lands in spotted owl recovery, (4) adequacy of the existing strategy for conservation of dispersal habitat, (5) protection of high-quality habitat, and (6) protection of occupied spotted owl sites.

The draft revised recovery plan is different from the 2008 Recovery Plan in several respects. We are conducting a scientifically rigorous, multi-step, range-wide modeling effort to design a habitat conservation network and assess its ability to provide for long-term recovery of the spotted owl. Consequently, we are not proposing to rely on the MOCA network recommended in the 2008 Recovery Plan and will instead use the model results to help evaluate several habitat conservation network scenarios. Until the barred owl threat is reduced, the draft revised plan recommends maintaining all occupied sites and unoccupied high-quality spotted owl habitat on all lands within the range of the spotted owl. The draft revised plan also recognizes the possibility of needing additional conservation contributions from non-Federal lands. Finally, the draft revised plan affirms our support for forest restoration management actions that are neutral or beneficial to spotted owl recovery.

Request for Public Comments

We invite written comments on the draft revised recovery plan. While all comments we receive by the date specified above will be considered in developing a final revised recovery plan, we encourage commenters to focus on those portions of the recovery plan that have been revised, particularly those topics noted above. Comments and materials we receive will be available for public inspection, by appointment, during normal business hours at the Oregon Fish and Wildlife Office in Portland (see ADDRESSES).

Before including your address, phone number, e-mail address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533 (f).

Dated: September 2, 2010.
David Patte,
Acting Regional Director, Region 1, U.S. Fish and Wildlife Service.

[FR Doc. 2010-22861 Filed 9-14-10; 8:45 am]

BILLING CODE 4310-55-P